DEPARTMENT OF ENERGY

Federal Energy Regulatory Commission

[Docket No. IC24-22-000]

Commission Information Collection Activities (FERC-537); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-537 (Gas Pipeline Certificates: Construction, Acquisition, and Abandonment).

DATES: Comments on the collection of information are due September 3, 2024.

ADDRESSES: You may submit copies of your comments (identified by Docket No. IC24-22-000) by one of the following methods:

Electronic filing through http://www.ferc.gov is preferred.

• Electronic Filing: Documents must be filed in acceptable native applications and print-to-PDF, but not in scanned or picture format.

• For those unable to file electronically, comments may be submitted to FERC as follows:

○ Mail via U.S. Postal Service Only: Federal Energy Regulatory Commission, Secretary of the Commission, 888 First Street NE, Washington, DC 20426.

○ All other services (including courier): Federal Energy Regulatory Commission, Secretary of the Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov, telephone at (202) 502-6362.

SUPPLEMENTARY INFORMATION:

Title: FERC-537: Gas Pipeline Certificates: Construction, Acquisition, and Abandonment.

OMB Control No.: 1902-0060.

Type of Request: Three-year extension of the FERC-537 information collection requirements with no changes to the reporting requirements.

Abstract: The FERC-537 information collection is in place for the Commission to carry out its responsibilities under section 7 of the Natural Gas Act (NGA). Section 7 of the NGA ¹ requires natural gas companies to obtain Commission approval before constructing, extending, or abandoning facilities or service. The Commission reviews and analyses the information filed under the FERC-537 to determine whether to approve or deny the requested authorization. After reviewing the supplied information, the Commission may grant a request to construct or extend pipeline facilities or service by issuing a certificate of public convenience and necessity. If the Commission failed to collect these data, it would lose its ability to review relevant information to determine whether the requested certificate should be authorized.

¹ 15 U.S.C. 717f.

The Commission implements section 7 of the NGA under regulations at 18 CFR part 157.

The data generally required to be submitted in a certificate filing consists of identification of the company and responsible officials, factors considered in the location of the facilities, and the impact on the area for environmental considerations. As applicable to the specific request, applicants may provide:

• Flow diagrams showing the design capacity for engineering design verification and safety determination;

• Cost of proposed facilities, plans for financing, and estimated revenues and expenses related to the proposed facility for accounting and financial evaluation; or

• Existing and proposed storage capacity and pressures and reservoir engineering studies for requests to increase storage capacity.

Applications for an order authorizing abandonment of facilities or service must contain a statement providing in detail the reasons for the requested abandonment and must contain exhibits listed at 18 CFR 157.18, as well as an affidavit showing the consent of existing customers. With some exceptions, such applications also must include an environmental report.

Applicants filing in accordance with 18 CFR part 157, subpart A (either for a certificate or for abandonment) generally must make a good-faith effort to provide notice of the application to all affected landowners, towns, communities, and government agencies.

Certain self-implementing construction and abandonment programs do not require the filing of applications. However, those types of programs do require the filing of annual reports, so many less significant actions can be reported in a single filing/response and less detail would be required. Additionally, requests for an increase of pipeline capacity must include a statement that demonstrates compliance with the Commission's Certificate Policy Statement by making a showing that the cost of the expansion will not be subsidized by existing customers and that there will not be adverse economic impacts to existing customers, competing pipelines or their customers, nor to landowners and to surrounding communities.

Type of Respondents: Jurisdictional natural gas companies.

Estimate of Annual Burden: ² The Commission estimates the annual public reporting burden for the information collection as:

² Burden is defined as the total time, effort, or financial resources expended by persons to generate, maintain, retain, or disclose or provide information to or for a Federal agency. Refer to 5 CFR 1320.3 for additional information.

FERC-537 (Gas Pipeline Certificates: Construction, Acquisition, and Abandonment) ³
| Number of respondents | Annual number of responses per respondent | Total number of responses | Average burden & cost per response ⁴ | Total annual burden hours & total annual cost | Cost per respondent ($)
| (1) | (2) | (1) * (2) = (3) | (4) | (3) * (4) = (5) | (5) ÷ (1) ⁵
18 CFR 157.5-.11 (Interstate Certificate and Abandonment Applications) | 31 | 1.39 | 43 (rounded) | 500 hrs.; $50,000 | 21,500 hrs; $2,150,000 | $69,355
18 CFR 157.53 (Pipeline Purging/Testing Exemptions) | 1 | 1 | 1 | 50 hrs.; $5,000 | 50 hrs.; $5,000 | 5,000
18 CFR 157.201-.209; 157.211; 157.214-.218 (Blanket Certificates Prior to Notice Filings) | 30 | 2.125 | 63.75 | 200 hrs.; $20,000 | 12,750 hrs.; $1,275,000 | 42,500
18 CFR 157.201-.209; 157.211; 157.214-.218 (Blanket Certificates—Annual Reports) | 176 | 1 | 176 | 50 hrs.; $5,000 | 8,800hrs.; $880,000 | 5,000
18 CFR 284.11 (NGPA Section 311 Construction—Annual Reports) | 75 | 1 | 75 | 50 hrs.; $5,000 | 3,750 hrs.; $375,000 | 5,000
18 CFR 284.8 ⁶ (Request for Waiver of Capacity Release Regulations) | 31 | 1.39 | 43 (rounded) | 10 hrs.; $1,000 | 430 hrs.; $43,000 | 1,390
18 CFR 284.13(e) and 284.126(a) (Interstate and Intrastate Bypass Notice) | 2 | 1 | 2 | 30 hrs.; $3,000 | 60 hrs.; $6,000 | 3,000
18 CFR 284.221 (Blanket Certificates) | 1 | 1 | 1 | 100 hrs.; $10,000 | 100 hrs.; $10,000 | 10,000
18 CFR 284.224 (Hinshaw Blanket Certificates) | 2 | 1 | 2 | 75 hrs.; $7,500 | 150 hrs.; $15,000 | 7,500
18 CFR 157.5-.11; 157.13-.20 (Non-facility Certificate or Abandonment Applications | 11 | 1.36 | 15 | 75 hrs.; $7,500 | 1,125 hrs.; $112,500 | 10,227
Project based Labor wages | 22 | 1 | 22 | 15 hrs. $1,500 | 330 hrs. $33,000 | 1,500
Total |  |  | 444 (rounded) |  | 49,045 hrs.; $4,539,000 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ Changes to estimated number of respondents were based on average number of respondents over the past three years.

⁴ The estimates for cost per response are derived using the following formula: Average Burden Hours per Response * $100.00/hour = Average cost/response. The figure is the 2024 FERC average hourly cost (for wages and benefits) of 100.00 (and an average annual salary of $207,786/year). Commission staff is using the FERC average salary because we consider any reporting requirements completed in response to the FERC-537 to be compensated at rates similar to the work of FERC employees.

⁵ Each of the figures in this column are rounded to the nearest dollar.

⁶ A Certificate Abandonment Application would require waiver of the Commission's capacity release regulations in 18 CFR 284.8; therefore this activity is associated with Interstate Certificate and Abandonment Applications.

Dated: June 27, 2024.
Debbie-Anne A. Reese,
Acting Secretary.

[FR Doc. 2024-14672 Filed 7-2-24; 8:45 am]

BILLING CODE 6717-01-P